DEPARTMENT OF VETERANS AFFAIRS

[OMB Control No. 2900-NEW-ALS]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to develop a national registry on veterans diagnosed with amyotrophic lateral sclerosis.

DATES: Written comments and recommendations on the proposed collection of information should be received on or before July 7, 2003.

ADDRESSES: Submit written comments on the collection of information to Ann W. Bickoff, Veterans Health Administration (193B1), Department of Veterans Affairs, 810 Vermont Avenue, NW., Washington, DC 20420 or e-mail ann.bickoff@hq.med.va.gov. Please refer to “OMB Control No. 2900-NEW-ALS” in any correspondence.

FOR FURTHER INFORMATION CONTACT: Ann W. Bickoff (202) 273-8310 or FAX (202) 273-9381.

SUPPLEMENTARY INFORMATION: Under the PRA of 1995 (Pub. L. 104-13; 44 U.S.C. 3501-3520), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. National Registry of Veterans with Amyotrophic Lateral Sclerosis (ALS), ALS Initial Baseline Screening Form, VA Form, 10—21047.

b. National Registry of Veterans with Amyotrophic Lateral Sclerosis (ALS), ALS Initial Baseline and Biannual Telephone Assessment.

c. VA Research Consent Form, VA Form 10—1086.

OMB Control Number: 2900-NEW-ALS.

Type of Review: New collection.

Abstract: Amyotrophic Lateral Sclerosis (ALS) is a disease of high priority to the Department of Veterans Affairs because of ongoing concerns about the health of veterans who served in the Gulf War. The creation of the registry will have significance both for VA and for the larger U.S. society in understanding the natural history of ALS. It will provide VA with crucial epidemiological data on the current population of veterans with ALS, as well as the ongoing identification of new cases. The data will help VA to understand how veterans are affected by ALS and may assist with early identification of new ALS clusters. This registry will provide a mechanism for informing veterans with ALS of new clinical drug trials and other studies.

Affected Public: Individuals or households.

Estimated Annual Burden:

a. National Registry of Veterans with Amyotrophic Lateral Sclerosis (ALS), ALS Initial Baseline Screening Form, VA Form, 10-21047—1,094 hours.

b. National Registry of Veterans with Amyotrophic Lateral Sclerosis (ALS), ALS Initial Baseline and Biannual Telephone Assessment—3,645.

c. VA Research Consent Form, VA Form 10-1086—1,421.

Estimated Average Burden Per Respondent:

a. National Registry of Veterans with Amyotrophic Lateral Sclerosis (ALS), ALS Initial Baseline Screening Form, VA Form, 10-21047—30 minutes.

b. National Registry of Veterans with Amyotrophic Lateral Sclerosis (ALS), ALS Initial Baseline and Biannual Telephone Assessment—30 minutes.

c. VA Research Consent Form, VA Form 10-1086—20 minutes.

Frequency of Response: Semi-annually.

Estimated Number of Respondents:

a. National Registry of Veterans with Amyotrophic Lateral Sclerosis (ALS), ALS Initial Baseline Screening Form, VA Form, 10-21047—2,196.

b. National Registry of Veterans with Amyotrophic Lateral Sclerosis (ALS), ALS Initial Baseline and Biannual Telephone Assessment—4,413.

c. VA Research Consent Form, VA Form 10-1086—1,840.

Estimated Number of Responses:

a. National Registry of Veterans with Amyotrophic Lateral Sclerosis (ALS), ALS Initial Baseline Screening Form, VA Form, 10-21047—2,196.

b. National Registry of Veterans with Amyotrophic Lateral Sclerosis (ALS), ALS Initial Baseline and Biannual Telephone Assessment—7,674.

c. VA Research Consent Form, VA Form 10-1086—1,840.

Dated: April 24, 2003.
By direction of the Secretary.
Jacqueline Parks,
IT Specialist, Records Management Service.

[FR Doc. 03-11207 Filed 5-5-03; 8:45 am]

BILLING CODE 8320-01-P